FEDERAL COMMUNICATIONS COMMISSION

47 CFR Parts 2 and 90

[PS Docket Nos. 13-87 and 06-229, WT Docket No. 96-86; RM-11433 and RM-11577; Report No. 3060]

Petition for Partial Reconsideration of Action in Rulemaking Proceeding

AGENCY: Federal Communications Commission.

ACTION: Petition for reconsideration.

SUMMARY: A Petition for Reconsideration (Petition) has been filed in the Commission's rulemaking proceeding, Chuck Powers, on behalf of Motorola Solutions, Inc.

DATES: Oppositions to the Petition must be filed on or before December 28, 2016. Replies to an opposition must be filed on or before January 9, 2017.

ADDRESSES: Federal Communications Commission, 445 12th Street SW., Washington, DC 20554.

FOR FURTHER INFORMATION CONTACT: Clay DeCell, International Bureau, phone: (202) 418-0803, email: Clay.DeCell@fcc.gov.

SUPPLEMENTARY INFORMATION: This is a summary of the Commission's document, Report No. 3060, released December 1, 2016. The full text of the Petition is available for viewing and copying at the FCC Reference Information Center, 445 12th Street SW., Room CY-A257, Washington, DC 20554. It also may be accessed online via the Commission's Electronic Comment Filing System at: https://www.fcc.gov/ecfs/filing/10919110011734/document/10919110011734e7d2. The Commission will not send a copy of this document pursuant to the Congressional Review Act, 5 U.S.C. 801(a)(1)(A), because this document does not have an impact on any rules of particular applicability.

Subject: Service Rules Governing Narrowband Operations in the 769-775/799-805 MHz Bands, FCC 16-111, Order on Reconsideration, published at 81 FR 66830, September 29, 2016, in PS Docket Nos. 13-87 and 06-229, WT Docket No. 96-86; RM-11433 and RM-11577. This document is being published pursuant to 47 CFR 1.429(e). See also 47 CFR 1.4(b)(1) and 1.429(f), (g).

Number of Petitions Filed: 1.

Federal Communications Commission.
Marlene H. Dortch,
Secretary.

[FR Doc. 2016-29827 Filed 12-12-16; 8:45 am]

BILLING CODE 6712-01-P